DEPARTMENT OF HOMELAND SECURITY

[Docket No. DHS-2024-0012]

Homeland Security Advisory Council; Notice of Meeting

AGENCY: Office of Partnership and Engagement (OPE), Department of Homeland Security (DHS).

ACTION: Notice of partially closed Federal advisory committee meeting.

SUMMARY: OPE is publishing this notice that the Homeland Security Advisory Council (HSAC) will meet in-person on Thursday, June 6, 2024. This meeting will be partially closed to the public.

DATES: Meeting Registration: Registration to attend the meeting is required and must be received no later than 5 p.m. eastern daylight time (EDT) on Friday, May 31, 2024. The meeting will take place from 9 a.m. ET to 11 a.m. ET on Thursday, June 6, 2024. The meeting will be closed to the public from 9:30 a.m. to 11 a.m. ET. The meeting will be open to the public from 9 a.m. to 9:30 a.m. ET. The meeting may end early if the Council has completed its business.

ADDRESSES: The HSAC meeting will be held at DHS St. Elizabeths Campus in Washington, DC Members of the public interested in participating may do so via teleconference or in person by following the process outlined below. There is limited seating available to the public and will be first come first serve. For those attending the public session you will be in listen-only mode except for the public comment portion of the meeting. Written comments must be submitted by 5 p.m. ET on May 30, 2024. Comments must be identified by Docket No. DHS-2024-0012 and may be submitted by one of the following methods:

• Federal eRulemaking Portal: http://www.regulations.gov. Follow the instructions for submitting comments.

• Email: HSAC@hq.dhs.gov. Include Docket No. DHS-2024-0012 in the subject line of the message.

• Mail: Rebecca Sternhell, Acting Executive Director of the Homeland Security Advisory Council, Office of Partnership and Engagement, Mailstop 0385, Department of Homeland Security, 2707 Martin Luther King Jr. Ave. SE, Washington, DC 20032.

Instructions: All submissions received must include the words “Department of Homeland Security” and “DHS-2024-0012”, the docket number for this action. Comments received will be posted without alteration at http://www.regulations.gov, including any personal information provided. You may wish to review the Privacy and Security Notice found via a link on the homepage of www.regulations.gov.

Docket: For access to the docket to read comments received by the Council, go to http://www.regulations.gov, search “DHS-2024-0012,” “Open Docket Folder” to view the comments.

FOR FURTHER INFORMATION CONTACT: Rebecca Sternhell, Acting Executive Director, HSAC at 771-203-9284 or HSAC@hq.dhs.gov.

SUPPLEMENTARY INFORMATION: Notice of this meeting is given under section 10(a) of the Federal Advisory Committee Act (FACA), Public Law 92-463 (5 U.S.C. ch. 10), which requires each FACA committee meeting to be open to the public unless the President, or the head of the agency to which the advisory committee reports, determines that a portion of the meeting may be closed to the public in accordance with 5 U.S.C. 552b(c).

The HSAC provides organizationally independent, strategic, timely, specific, actionable advice, and recommendations to the Secretary of Homeland Security on matters related to homeland security. The Council consists of senior executives from government, the private sector, academia, law enforcement, and non-governmental organizations.

The Council will meet in an open session between 11 a.m. to 11:20 a.m. ET. The Council was tasked to create the Combating Online Child Sexual Exploitation and Abuse (CSEA) Subcommittee on November 14, 2023. The CSEA Subcommittee is tasked with (1) an assessment of how DHS can streamline and strengthen internal operations across components to effectively coordinate and collectively address online child sexual exploitation and abuse alongside our international partners, the technology industry, and non-governmental organizations. (2) An assessment and development of recommended actions for the technology industry to proactively identify, report, and prevent future sexual exploitation and abuse of children online. The assessment should include (a) a review of existing authorities and how DHS could utilize these authorities to move our interests forward; and (b) identification of the barriers impeding industry from providing actionable information to law enforcement to identify victims and perpetrators. (3) An assessment to gauge the strengths, gaps, and opportunities in public awareness, industry engagement, and whole-of-community involvement. The HSAC CSEA assessment should include recommendations for cross-industry collaboration to raise public awareness of online CSEA.

The open session will include a briefing from the CSEA Subcommittee, public comment, HSAC member deliberation, and voting on the draft report from the CSEA Subcommittee.

For the open session, members of the public will be in listen-only mode except during the public comment session.

Meeting instructions for virtual and in person attendance. Members of the public may register to participate in this Council meeting via teleconference under the following procedures. Each individual must provide their full legal name and email address no later than 5 p.m. ET on Friday, May 31, 2024, to Rebecca Sternhell, Acting Executive Director of the Homeland Security Advisory Council via email to HSAC@hq.dhs.gov or via phone at 771-203-9284. Members of the public who have registered to participate will be provided the teleconference call-in number. Members of the public who would like to participate in person will follow the above instructions and inform the Acting Executive Director via email that you will be attending in person. You will receive specific instructions on how to attend. Seating is limited and is on a first come first serve basis. All public participants will receive the meeting agenda, and the draft subcommittee report after the closing of the public registration period and prior to the start of the meeting. For more information about the HSAC, please visit our website: https://www.dhs.gov/homeland-ecurityadvisory-council.

For information on services for individuals with disabilities, or to request special assistance, please email HSAC@hq.dhs.gov by 5:00 p.m. ET on Friday, May 31, 2024 or call 771-203-9284. The HSAC is committed to ensuring all participants have equal access regardless of disability status. If you require a reasonable accommodation due to a disability to fully participate, please contact Rebecca Sternhell at 771-203-9284 or HSAC@hq.dhs.gov as soon as possible.

The Council will meet in a closed session from 9:30 a.m. to 11 a.m. ET to participate in a sensitive discussion with DHS senior leaders regarding DHS operations. Basis for Partial Closure: In accordance with section 10(d) of FACA, the Secretary of Homeland Security has determined this meeting must be closed during this session as the disclosure of the information relayed would be detrimental to the public interest for the following reasons:

The Council will participate in a sensitive operational discussion containing For Official Use Only and Law Enforcement Sensitive information. This discussion will include information regarding threats facing the United States and how DHS plans to address those threats. The session is closed pursuant to 5 U.S.C. 552b(c)(9)(B) because the disclosure of this information could significantly frustrate implementation of proposed agency actions.

Dated: May 21, 2024.
Rebecca Sternhell,
Acting Executive Director, Homeland Security Advisory Council, Department of Homeland Security.

[FR Doc. 2024-11495 Filed 5-23-24; 8:45 am]

BILLING CODE 9112-FN-P